DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 1, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Mark A. Metzger, West Alexandria, OH, PRT-106089.

The applicant requests a permit to import the sport-hunted trophy of one cheetah (Acinonyx jubatus) taken in Namibia, for the purpose of enhancement of the survival of the species.

Applicant: Arrowhead Bluffs Inc., Wabasha, MN, PRT-103917.

The applicant requests a permit to import the sport-hunted trophy of one male wood bison (Bison bison athabascae) taken in Canada, for the purpose of enhancement of the survival of the species.

Applicant: Chembio Diagnostic Systems Inc., Medford, NY, PRT-103443.

The applicant requests a permit to import serum samples from captive held Asian elephants (Elephas maximus) at the Kolmarden Zoo, Sweden, for the purpose of scientific research and clinical evaluation.

Applicant: Henry Doorly Zoo, Omaha, NE, PRT-102941.

The applicant requests a permit to import one male captive born vicuna (Vicuna vicuna) from the Assiniboine Park Zoo, Winnipeg, Canada, for the purpose of enhancement of the survival of the species through captive propagation.

Applicant: Thomas W. Ellis, Raleigh, NC, PRT-104256.

The applicant requests a permit to import the sport-hunted trophy of one male bontebok (Damaliscus pygargus pygargus) culled from a captive herd maintained under the management program of the Republic of South Africa, for the purpose of enhancement of the survival of the species.

Applicant: Arthur W. Korson, Dryden, MI, PRT-104271.

The applicant requests a permit to import the sport-hunted trophy of one male bontebok (Damaliscus pygargus pygargus) culled from a captive herd maintained under the management program of the Republic of South Africa, for the purpose of enhancement of the survival of the species.

Applicant: Paul V. Facchina, Newburg, MD, PRT-104289.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: John L. Amistoso, Deer Park, WA, PRT-104360.

The applicant requests a permit to import a polar bear (Ursus maritimus) sport hunted from the Norweigian Bay polar bear population in Canada for personal, noncommercial use.

Applicant: John F. Vipperman, Chapman, NE, PRT-104361.

The applicant requests a permit to import a polar bear (Ursus maritimus) sport hunted from the Western Hudson Bay polar bear population in Canada for personal, noncommercial use.

Applicant: George H. Lawrence, Airway Heights, WA, PRT-104697.

The applicant requests a permit to import a polar bear (Ursus maritimus) sport hunted from the Southern Beaufort Sea polar bear population in Canada for personal, noncommercial use.

Applicant: James L. Craig, Bloomfield, IN, PRT-104988.

The applicant requests a permit to import a polar bear (Ursus maritimus) sport hunted from the Lancaster Sound polar bear population in Canada for personal, noncommercial use.

Dated: June 17, 2005.
Michael S. Moore,
Senior Permit Biologist, Branch of Permits, Division of Management Authority.

[FR Doc. 05-13046 Filed 6-30-05; 8:45 am]

BILLING CODE 4310-55-P